DEPARTMENT OF ENERGY

Office of Energy Efficiency and Renewable Energy

Biomass Research and Development Technical Advisory Committee

AGENCY: Department of Energy, Office of Energy Efficiency and Renewable Energy.

ACTION: Notice of open meeting.

SUMMARY: This notice announces an open meeting of the Biomass Research and Development Technical Advisory Committee under the Biomass Research and Development Act of 2000.

The Federal Advisory Committee Act (Pub. L. No. 92-463, 86 Stat. 770) requires that agencies publish these notices in the Federal Register to allow for public participation. This notice announces the meeting of the Biomass Research and Development Technical Advisory Committee.

Dates and Times: November 28, 2006 from 8 a.m.-4:30 p.m.

November 29, 2006 from 8 a.m.-3 p.m.

ADDRESSES: L'Enfant Plaza Hotel, Main Ballroom and Quorum Room, 480 L'Enfant Plaza, Washington, DC 20024.

FOR FURTHER INFORMATION CONTACT: Neil Rossmeissl, Designated Federal Officer for the Committee, Office of Energy Efficiency and Renewable Energy, U.S. Department of Energy, 1000 Independence Avenue, SW., Washington, DC 20585; (202) 586-8668 or Harriet Foster at (202) 586-4541; E-mail: harriet.foster@ee.doe.gov.

SUPPLEMENTARY INFORMATION: Purpose of Meeting: To provide advice and guidance that promotes research and development leading to the production of biobased fuels and biobased products.

Tentative Agenda: Agenda will include the following:

• Review update process for Vision for Bioenergy and Bioproducts in the United States and Roadmap for Biomass Technologies in the U.S.

• Announce release of the updated Vision.

• Review Committee recommendations for fiscal year 2006.

• Meet with Interagency Biomass Research and Development (R&D) Board.

• Discuss Analysis and Policy subcommittee business.

• Provide input on update to Roadmap.

• Receive update on USDA Federal Biobased Products Procurement Preference Program.

• Receive update on USDA—DOE collaboration.

• Receive update on DOE activities from the Designated Federal Officer (DFO).

• Receive update on USDA research portfolio analysis under Farm Bill section 9008.

• Review status of 2006 and 2007 USDA—DOE joint biomass research solicitations.

• Discuss organization of an Outreach subcommittee.

• Discuss the new BRDI Web site.

• Discuss recommendations for fiscal year 2007.

• Review 2007 Work Plan and discuss 2007 meeting schedule.

Public Participation: In keeping with procedures, members of the public are welcome to observe the business of the Biomass Research and Development Technical Advisory Committee. To attend the meeting and/or to make oral statements regarding any of the items on the agenda, you should contact Neil Rossmeissl at 202-586-8668 or the Biomass Initiative at 202-586-4541 or harriet.foster@ee.doe.gov (e-mail). You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business. This notice is being published less than 15 days before the date of the meeting due to the holiday.

Minutes: The minutes of the meeting will be available for public review and copying at the Freedom of Information Public Reading Room; Room 1E-190; Forrestal Building; 1000 Independence Avenue, SW., Washington, DC, between 9 a.m. and 4 p.m., Monday through Friday, except Federal holidays.

Issued at Washington, DC on November 9, 2006.
Rachel M. Samuel,
Deputy Advisory Committee Management Officer.

[FR Doc. E6-19281 Filed 11-14-06; 8:45 am]

BILLING CODE 6450-01-P